DEPARTMENT OF THE INTERIOR

Bureau of Indian Affairs

25 CFR Part 61

RIN 1076-AE44

Preparation of Rolls of Indians

AGENCY: Bureau of Indian Affairs, Interior.

ACTION: Proposed rule; reopening of comment period.

SUMMARY: This document reopens the comment period for the proposed rule published on May 19, 2005, which opened the enrollment applications process for the Western Shoshone Identifiable Group of Indians.

DATES: Written comments must be received on or before October 28, 2005.

ADDRESSES: You may submit comments, identified by the number 1076-AE44, by any of the following methods:

• Federal rulemaking portal: http://www.regulations.gov. Follow the instructions for submitting comments.

• Mail: Daisy West, Office of Tribal Services, Bureau of Indian Affairs, 1951 Constitution Avenue, NW., Mail Stop 320-SIB, Washington, DC 20240.

• Hand delivery: Office of Tribal Services, Bureau of Indian Affairs, 1951 Constitution Avenue, NW., Room 320-SIB, Washington, DC 20240.

FOR FURTHER INFORMATION CONTACT: Daisy West, Office of Tribal Services, Bureau of Indian Affairs, (202) 513-7641.

SUPPLEMENTARY INFORMATION: On May 19, 2005, the Bureau of Indian Affairs published a proposed rule to amend its regulations governing the compilation of rolls of Indians in order to open the enrollment applications process for the Western Shoshone Identifiable Group of Indians (70 FR 28859). Last year we made a commitment to hold meetings with the Shoshone people to discuss the proposed rule. We were unable, however, to schedule the meetings in Elko and Reno, Nevada until August 20 and 27, 2005. We must therefore extend the comment period beyond the original deadline of July 18, 2005.

Dated: September 16, 2005.
Michael D. Olsen,
Acting Principal Deputy Assistant Secretary—Indian Affairs.

[FR Doc. 05-19322 Filed 9-27-05; 8:45 am]

BILLING CODE 4310-4J-P